ENVIRONMENTAL PROTECTION AGENCY

[FRL-7161-1]

Agency Information Collection Activities: Proposed Collection; Comment Request; Up for Renewal: EPA Worker Protection Standard for Hazardous Waste Operations and Emergency Response, EPA ICR #1426.06, OMB Control #2050-0105, Expiration 7/31/2002

AGENCY: Environmental Protection Agency (EPA).

ACTION: Notice.

SUMMARY: In compliance with the Paperwork Reduction Act (44 U.S.C. 3501 et seq.), this document announces that EPA is planning to submit the following continuing Information Collection Request (ICR) to the Office of Management and Budget (OMB): EPA Worker Protection Standard for Hazardous Waste Operations and Emergency Response, EPA ICR #1426.06, OMB Control #2050-0105, Expiration 7/31/2002. Before submitting the ICR to OMB for review and approval, EPA is soliciting comments on specific aspects of the proposed information collection as described below.

DATES: Comments must be submitted on or before May 15, 2002.

ADDRESSES: Office of Solid Waste and Emergency Response (5305G), U.S. Environmental Protection Agency, Ariel Rios Building, 1200 Pennsylvania Avenue NW, Washington, DC 20460.

Remit comments to Sella M. Burchette, US EPA/ERTC, 2890 Woodbridge Avenue, Building 18, MS101, Edison, NJ 08837-3679.

To obtain a copy at no charge, please contact Sella Burchette at (732) 321-6726/FAX: (732) 321-6724/or electronically at burchette.sella@epa.gov.

FOR FURTHER INFORMATION CONTACT: Sella M. Burchette, (732) 321-6726/FAX: (732) 321-6724/or electronically at burchette.sella@epa.gov.

SUPPLEMENTARY INFORMATION: Affected entities: Entities potentially affected by this action are those State and local employees engaged in hazardous waste operations and emergency response in the 27 States that do not have Occupational Safety and Health Administration (OSHA) approved State plans.

Title: EPA Worker Protection Standard for Hazardous Waste Operation and Emergency Response, OMB Control #2050-0105, EPA ICR #1426.06, Expiration 7/31/02. This is a request for renewal of a currently approved collection.

Abstract: Section 126(f) of the Superfund Amendments and Reauthorization Act of 1986 (SARA) requires EPA to set worker protection standards for State and local employees engaged in hazardous waste operations and emergency response in the 27 States that do not have Occupational Safety and Health Administration approved State plans. The EPA coverage, required to identical to the OSHA standards, extends to three categories of employees: those engaged in clean-ups at uncontrolled hazardous waste sites, including corrective actions at Treatment, Storage and Disposal (TSD) facilities regulated under the Resource Conservation and recovery Act (RCRA); employees working at routine hazardous waste operations at RCRA TSD facilities, and employees involved in emergency response operations without regard to location. This ICR renews to existing mandatory record keeping collection of ongoing activities including monitoring of any potential employee exposure at uncontrolled hazardous waste site, maintaining records of employee training, refresher training, medical exams and reviewing emergency response plans. An agency may not conduct or sponsor, and a person is not required to respond to, a collection of information unless it displays a currently valid OMB control number. The OMB control numbers for EPA's regulations are listed in 40 CFR part 9 and 48 CFR Chapter 15.

The EPA would like to solicit comments to:

(i) Evaluate whether the proposed collection of information is necessary for the proper performance of the functions of the agency, including whether the information will have practical utility;

(ii) evaluate the accuracy of the agency's estimate of the burden of the proposed collection of information, including the validity of the methodology and assumptions used;

(iii) enhance the quality, utility, and clarity of the information to be collected; and

(iv) minimize the burden of the collection of information on those who are to respond, including through the use of appropriate automated electronic, mechanical, or other technological collection techniques or other forms of information technology, e.g., permitting electronic submission of responses.

Burden Statement: The annual recordkeeping burden for this collection is estimated to average 10.46 hours per site or event. The estimated number of respondents is approximated at 100 RCRA TSD facilities or uncontrolled hazardous waste sites: 23,900 State and local police departments, fire departments or hazardous materials teams. The estimated total burden hours on respondents: 255,427. The frequency of collection: continuous maintenance of records. Burden means to total time, effort, and financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Remit comments regarding these matters, or any other aspect of the information collection, including suggestions for reducing the burden, to the address listed above.

Dated: March 5, 2002.
Elaine F. Davies,
Acting Office Director, Office of Emergency and Remedial Response.

[FR Doc. 02-6849 Filed 3-20-02; 8:45 am]

BILLING CODE 6560-50-P